DEPARTMENT OF ENERGY

Federal Energy Regulatory Commission

[Project No. 13652-000]

Gary E. Hall and Rita C. Hall; Notice of Application Accepted for Filing With the Commision, Soliciting Motions To Intervene and Protests, Ready for Environmental Analysis, Intent To Waive Solicitation of Additional Study Requests, Intent To Waive Scoping, Intent To Waive Three Stage Consultation, Soliciting Comments, Terms and Conditions, Recommendations, and Prescriptions, and Establishing an Expedited Schedule for Processing

February 5, 2010.

Take notice that the following hydroelectric application has been filed with the Commission and is available for public inspection.

a. Type of Application: Exemption From Licensing.

b. Project No.: 13652-000.

c. Date filed: January 11, 2010.

d. Applicant: Gary E. Hall and Rita C. Hall.

e. Name of Project: Potter Creek Hydroelectric Project.

f. Location: The project is located on Potter Creek in Flathead County, Montana. The project would be located on private property and 0.51 acre of federal lands in the Flathead National Forest, managed by the Forest Service. The applicant owns the private property on which the project will be located.

g. Filed Pursuant to: Public Utilities Regulatory Policies Act of 1978, 16 U.S.C. 2705, 2708.

h. Applicant Contact: Mr. Gary E. Hall and Ms. Rita C. Hall, P.O. Box 133, Olney, MT 59927, (406) 881-2345.

i. FERC Contact: Jennifer Harper, (202) 502-6136.

j. Cooperating Agencies: We are asking Federal, state, and local agencies and Indian tribes with jurisdiction and/or special expertise with respect to environmental issues to cooperate with us in the preparation of the environmental document. Agencies who would like to request cooperating status should follow the instructions for filing comments described in item l below.

k. Pursuant to the Commission's regulations, 18 CFR 4.32(b)(7), if any resource agency, Indian tribe, or person believes that an additional scientific study should be conducted in order to form a factual basis for complete analysis of the application on its merits, the resource agency, Indian tribe, or person must file a request for the study with the Commission. Due to the small size and remote location of this project, the applicant's close coordination with the Forest Service in the preparation of the application, and the lack of any study requests submitted during pre-filing consultation with the FWS, Montana Department of Fish, Wildlife and Parks, Montana State Historic Preservation Office, and the Flathead Conservation District, we accept the consultation that has occurred on this project during the pre-filing period as satisfying our requirements for requesting additional studies specified in 18 CFR 4.32(b)(7).

l. Deadline for filing motions to intervene and protests, comments, terms and conditions, recommendations, and prescriptions: Due to the small size and remote location of this project, as well as the applicant's close coordination with the Forest Service in the preparation of the application, the 60-day timeframe specified in 18 CFR 4.34(b) for filing motions to intervene and protests, comments, terms and conditions, recommendations, and prescriptions is shortened to 30 days from the issuance date of this notice. All reply comments filed in response to comments submitted by any resource agency, Indian tribe, or person, must be filed with the Commission within 45 days from the date of this notice

All documents may be filed electronically via the Internet in lieu of paper. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

m. This application has been accepted for filing and is now ready for environmental analysis.

n. Project Description: The Potter Creek Hydroelectric Project would consist of the following: (1) An existing 50-foot-wide by 5-foot-high wood slat and rock impoundment; (2) an existing 0.07-acre reservoir having a storage capacity of 0.14 acre-feet of water; (3) a 4-inch-diameter, 111-foot-long PVC penstock; (4) a turbine box containing one generating unit with total installed generating capacity of 50 watts; and (5) an approximately 335-foot-long transmission line from the turbine box to the Hall residence. The project would have an average annual generation of 438 kilowatt-hours. The dam, reservoir, penstock, turbine box, and 293 feet of the transmission line are located on federal lands in the Flathead National Forest managed by the Forest Service. The applicant proposes to operate the project as run-of-river.

o. A copy of the application is available for review at The Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

p. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 C.F.R. §§ 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

q. With this notice, we are initiating consultation with the Montana State Historic Preservation Office, as required by § 106, National Historic Preservation Act, and the regulations of the Advisory Council on Historic Preservation, 36 CFR Part 800.4.

r. Procedural schedule and final amendments: We intend to accept the consultation that has occurred on this project during the pre-filing period as satisfying our requirements for the standard 3-stage consultation process under 18 CFR 4.38 and for National Environmental Policy Act scoping. The application will be processed according to the following procedural schedule. Revisions to the schedule may be made as appropriate.

Milestone | Target date
Comments, recommendations, and terms and conditions due | March 8, 2010.
Reply comments due | March 23, 2010.
Notice of the availability of the EA | April, 2010.

s. Based on a review of the exemption application and resource agency consultation letters, Commission staff intend to prepare a single environmental assessment (EA). The EA will assess the potential effects of project construction and operation on geology and soils, aquatic, terrestrial, threatened and endangered species, recreation and land use, aesthetic, and cultural and historic resources. Because staff believe the issues that need to be addressed in its EA have been adequately identified, with this notice, we are soliciting comments on our intent to waive scoping for the Potter Creek Hydroelectric Project. Comments, terms and conditions, recommendations, prescriptions, and reply comments, if any, will be addressed in an EA.

Final amendments to the application must be filed with the Commission no later than 30 days from the issuance date of the notice of ready for environmental analysis.

Kimberly D. Bose,
Secretary.

[FR Doc. 2010-3103 Filed 2-18-10; 8:45 am]

BILLING CODE 6717-01-P